DEPARTMENT OF DEFENSE

Office of the Secretary

[Transmittal Nos. 14-18]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-18 with attached transmittal, policy justification, and Sensitivity of Technology.

Dated: July 8, 2014.
Aaron Siegel,
Alternate OSD Federal Register Liaison Officer, Department of Defense.

BILLING CODE 5001-06-P

Transmittal No. 14-18

Notice of Proposed Issuance of Letter of Offer Pursuant to Section 36(b)(1) of the Arms Export Control Act, as amended

(i) Prospective Purchaser: Singapore

(ii) Total Estimated Value:

Major Defense Equipment* | $43 million
Other | $20 million
TOTAL | $63 million
* As defined in Section 47(6) of the Arms Export Control Act.

(iii) Description and Quantity or Quantities of Articles or Services under Consideration for Purchase: 913 KMU-556B/B Joint Direct Attack Munition (JDAM) kits for Mk-84 2000 lb bombs, 100 FMU-152A/B fuzes, and 300 DSU-40 Precision Laser Guidance Sets. Also included are containers, munition trailers, support equipment, spare and repair parts, test equipment, publications and technical documentation, personnel training and training equipment, U.S. Government and contractor engineering and technical support, and other related elements of logistics support.

(iv) Military Department: Air Force (YAH)

(v) Prior Related Cases, if any: None

(vi) Sales Commission, Fee, etc., Paid, Offered, or Agreed to be Paid: None

(vii) Sensitivity of Technology Contained in the Defense Article or

Defense Services Proposed to be Sold: See Attached Annex

(viii) Date Report Delivered to Congress: 3 July 2014

POLICY JUSTIFICATION

Singapore—Joint Direct Attack Munition (JDAM) Kits

The Government of Singapore has requested a possible sale of 913 KMU-556B/B Joint Direct Attack Munition (JDAM) kits for Mk-84 2000 lb bombs, 100 FMU-152A/B fuzes, and 300 DSU-40 Precision Laser Guidance Sets. Also included are containers, munition trailers, support equipment, spare and repair parts, test equipment, publications and technical documentation, personnel training and training equipment, U.S. Government and contractor engineering and technical support, and other related elements of logistics support. The estimated cost is $63 million.

This proposed sale will contribute to the foreign policy objectives and strategic national security objectives of the United States by supporting Singapore as a key regional partner in counter-terrorism and an important force for political stability and economic progress in South East Asia.

Singapore is requesting these guidance sets, services and equipment to sustain its air-to-ground weapons stockpiles and to accommodate training expenditures. This sale will enable the Republic of Singapore Air Force to sustain mission-ready status to ensure it can contribute to coalition operations and meet its national defense requirements. Singapore maintains a large CONUS F-15SG training presence at Mountain Home AFB. A portion of these munitions are anticipated for use at this CONUS training facility, and will enable RSAF pilots to practice using GPS-guided munitions that will further refine their combat capability. Singapore should have no difficulty absorbing these additional munitions into its armed forces.

The proposed sale of these munitions and support will not alter the basic military balance in the region.

The principal contractor will be the Boeing Defense, Space and Security in St. Louis, Missouri. There are no known offset agreements proposed in connection with this potential sale.

Implementation of this proposed sale will not require the assignment of any additional U.S. Government or contractor representatives to Singapore.

There will be no adverse impact on U.S. defense readiness as a result of this proposed sale.

Transmittal No. 14-18

Notice of Proposed Issuance of Letter of Offer Pursuant to Section 36(b)(1) of the Arms Export Control Act

Annex Item No. vii

(vii) Sensitivity of Technology

1. Joint Direct Attack Munition (JDAM) is not a stand-alone weapon; rather it is a term used to describe a “bolt-on” guidance package that converts unguided bombs into precision-guided munitions (PGMs). Weapon accuracy is dependent on target coordinates and present position as entered into the guidance control unit. The Inertial Navigation System (INS), using updates from the Global Positioning System (GPS), helps guide the bomb to the target via the use of movable tail fins. With the addition of a laser guidance nose kit, the JDAM is provided a capability to engage moving targets. The JDAM all-up-round (AUR) is Unclassified; technical data for JDAM is classified up to Secret.

2. The KMU-556 B/B MK-84 Tail Kit with GPS SAASM is the tail kit for the GBU-31B(V)1/B and GBU-56(V)/B. Information revealing SAASM implementation is classified Secret.

3. The FMU-152A/B fuze is a Multi-Delay, Multi-Arm and Proximity Sensor Compatible with General Purpose Blast: Fragmentation and Hardened-Target Penetrator Warheads. It is cockpit selectable in-flight (prior to release) when used with JDAM weapons.

4. If a technologically advanced adversary were to obtain knowledge of the specific hardware and software elements, the information could be used to develop countermeasures that might reduce weapon system effectiveness or be used in the development of a system with similar or advanced capabilities.

5. A determination has been made that the recipient country can provide the same degree of protection for the sensitive technology being released as the U.S. Government. This sale is necessary in furtherance of the U.S. foreign policy and national security objectives as outlined in the Policy Justification.

6. All defense articles and services listed in this transmittal have been authorized for release and export to the Singapore.

[FR Doc. 2014-16332 Filed 7-11-14; 8:45 am]

BILLING CODE 5001-06-C